DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 3, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: November 18, 2015.
Roy E. Wright,
Deputy Associate Administrator for Insurance and Mitigation, Department of Homeland Security, Federal Emergency Management Agency.

I. Watershed-Based Studies:

Community | Community map repository address
Lower Wisconsin River Watershed
Grant County, Wisconsin, and Incorporated Areas
Docket No.: FEMA-B-1434
City of Boscobel | City Hall, 1006 Wisconsin Avenue, Boscobel, WI 53805.
City of Lancaster | City Hall, 206 South Madison Street, Lancaster, WI 53813.
City of Platteville | City Hall, 75 North Bonson Street, Platteville, WI 53818.
Village of Bagley | Village Hall, 400 South Jackley Lane, Bagley, WI 53801.
Village of Bloomington | Village Hall, 453 Canal Street , Bloomington, WI 53804.
Village of Blue River | Village Hall, 201 Clinton Street, Blue River, WI 53518.
Village of Mount Hope | Village Hall, 127 East Main Street, Mount Hope, WI 53816.
Village of Muscoda | Village Hall, 206 North Wisconsin Avenue, Muscoda, WI 53573.
Unincorporated Areas of Grant County | Tax Listers Office, 111 South Jefferson Street, Lancaster, WI 53813.

II. Non-Watershed-Based Studies:

Community | Community map repository address
Cochise County, Arizona, and Incorporated Areas
Docket No.: FEMA-B-1413
City of Benson | Planning & Zoning, 120 West 6th Street, Benson, AZ 85602.
Unincorporated Areas of Cochise County | Cochise County Flood Control District, 1415 Melody Lane, Building F, Bisbee, AZ 85603.
Hamilton County, Tennessee, and Incorporated Areas
Docket No.: FEMA-B-1445
City of Chattanooga | City of Chattanooga Planning Department, 1250 Market Street, Suite 1000, Chattanooga, TN 37402.
City of Collegedale | Collegedale City Hall, 4910 Swinyar Drive, Collegedale, TN 37315.
City of East Ridge | East Ridge City Hall, Inspections Department, 1517 Tombras Avenue, East Ridge, TN 37412.
Unincorporated Areas of Hamilton County | Hamilton County Regional Planning Department, 1250 Market Street, Suite 3050, Chattanooga, TN 37402.

[FR Doc. 2015-31010 Filed 12-8-15; 8:45 am]

BILLING CODE 9110-12-P